DEPARTMENT OF TRANSPORTATION

Federal Aviation Administration

14 CFR Part 97

[Docket No. 30981 Amdt. No. 3611]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 17, 2014. The compliance date for each SIAP, associated Takeoff Minimums, and ODP is specified in the amendatory provisions.

The incorporation by reference of certain publications listed in the regulations is approved by the Director of the Federal Register as of November 17, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on September 26, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 November 2014

Nome, AK, Nome, ILS OR LOC/DME Z RWY 28, Amdt 4

Nome, AK, Nome, LOC/DME BC RWY 10, Amdt 4

Nome, AK, Nome, NDB-A, Amdt 1

Nome, AK, Nome, NDB/DME RWY 3, Amdt 3

Nome, AK, Nome, Takeoff Minimums and Obstacle DP, Amdt 6

Nome, AK, Nome, VOR RWY 28, Amdt 3

Nome, AK, Nome, VOR/DME RWY 10, Amdt 3

Shaktoolik, AK, Shaktoolik, RNAV (GPS) RWY 14, Amdt 1

Sitka, AK, Sitka Rocky Gutierrez, BIORKA THREE, Graphic DP

Arkadelphia, AR, Dexter B Florence Memorial Field, NDB RWY 4, Amdt 7, CANCELED

Arkadelphia, AR, Dexter B Florence Memorial Field, RNAV (GPS) RWY 4, Amdt 1

Arkadelphia, AR, Dexter B Florence Memorial Field, RNAV (GPS) RWY 22, Orig

Arkadelphia, AR, Dexter B Florence Memorial Field, Takeoff Minimums and Obstacle DP, Amdt 3

Glendale, AZ, Glendale Muni, Takeoff Minimums and Obstacle DP, Amdt 1

Goodyear, AZ, Phoenix Goodyear, POTER TWO, Graphic DP

Goodyear, AZ, Phoenix Goodyear, Takeoff Minimums and Obstacle DP, Amdt 1

San Diego/El Cajon, CA, Gillespie Field, LOC/DME-D, Amdt 11

Santa Rosa, CA, Charles M. Schulz—Sonoma County, Takeoff Minimums and Obstacle DP, Amdt 7

Denver, CO, Rocky Mountain Metropolitan, Takeoff Minimums and Obstacle DP, Amdt 6

Perry, FL, Perry-Foley, Takeoff Minimums and Obstacle DP, Amdt 1

Atlanta, GA, Hartsfield—Jackson Atlanta Intl, RNAV (GPS) RWY 9L, Amdt 4

Atlanta, GA, Hartsfield—Jackson Atlanta Intl, RNAV (GPS) PRM RWY 9L (SIMULTANEOUS CLOSE PARALLEL), Orig

Winder, GA, Barrow County, ILS OR LOC RWY 31, Orig-B

Winder, GA, Barrow County, NDB RWY 31, Amdt 9A

Winder, GA, Barrow County, RNAV (GPS) RWY 31, Amdt 1A

Newton, IA, Newton Muni, ILS OR LOC RWY 32, Amdt 2

Newton, IA, Newton Muni, RNAV (GPS) RWY 14, Amdt 1

Newton, IA, Newton Muni, RNAV (GPS) RWY 32, Orig-A

Boise, ID, Boise Air Terminal/Gowen Fld, RNAV (RNP) X RWY 28R, Orig

New Castle, IN, New Castle-Henry Co Muni, NDB RWY 27, Amdt 6

New Castle, IN, New Castle-Henry Co Muni, RNAV (GPS) RWY 9, Orig

New Castle, IN, New Castle-Henry Co Muni, RNAV (GPS) RWY 27, Orig

New Castle, IN, New Castle-Henry Co Muni, VOR RWY 27, Amdt 10

Sullivan, IN, Sullivan County, RNAV (GPS) RWY 18, Amdt 1

Sullivan, IN, Sullivan County, RNAV (GPS) RWY 36, Amdt 1

Wichita, KS, Wichita Dwight D. Eisenhower National, ILS OR LOC RWY 1L, ILS RWY 1L (SA CAT I), ILS RWY 1L (CAT II), Amdt 3C

Wichita, KS, Wichita Dwight D. Eisenhower National, ILS OR LOC RWY 1R, Amdt 17C

Wichita, KS, Wichita Dwight D. Eisenhower National, ILS OR LOC RWY 19L, Amdt 1

Wichita, KS, Wichita Dwight D. Eisenhower National, ILS OR LOC RWY 19R, Amdt 5F

Wichita, KS, Wichita Dwight D. Eisenhower National, NDB RWY 1R, Amdt 15C

Wichita, KS, Wichita Dwight D. Eisenhower National, RNAV (GPS) RWY 1R, Amdt 2

Wichita, KS, Wichita Dwight D. Eisenhower National, RNAV (GPS) RWY 32, Amdt 1A

Wichita, KS, Wichita Dwight D. Eisenhower National, RNAV (GPS) Y RWY 1L, Amdt 1B

Wichita, KS, Wichita Dwight D. Eisenhower National, RNAV (GPS) Y RWY 14, Amdt 2A

Wichita, KS, Wichita Dwight D. Eisenhower National, RNAV (GPS) Y RWY 19L, Amdt 2

Wichita, KS, Wichita Dwight D. Eisenhower National, RNAV (GPS) Y RWY 19R, Amdt 1A

Wichita, KS, Wichita Dwight D. Eisenhower National, RNAV (RNP) Z RWY 1L, Orig-C

Wichita, KS, Wichita Dwight D. Eisenhower National, RNAV (RNP) Z RWY 14, Orig-B

Wichita, KS, Wichita Dwight D. Eisenhower National, RNAV (RNP) Z RWY 19L, Amdt 1

Wichita, KS, Wichita Dwight D. Eisenhower National, RNAV (RNP) Z RWY 19R, Orig-B

Marion, KY, Marion-Crittenden County, RNAV (GPS) RWY 7, Amdt 2

Marion, KY, Marion-Crittenden County, RNAV (GPS) RWY 25, Amdt 2

Pine Knot, KY, Mc Creary County, RNAV (GPS) RWY 4, Orig

Pine Knot, KY, Mc Creary County, RNAV (GPS) RWY 22, Orig

Pine Knot, KY, Mc Creary County, Takeoff Minimums and Obstacle DP, Orig

Galliano, LA, South LaFourche Leonard Miller Jr, ILS OR LOC/DME RWY 36, Amdt 1

Galliano, LA, South LaFourche Leonard Miller Jr, RNAV (GPS) RWY 18, Amdt 2

Galliano, LA, South LaFourche Leonard Miller Jr, RNAV (GPS) RWY 36, Amdt 1

Springhill, LA, Springhill, RNAV (GPS) RWY 18, Orig-A, CANCELED

Springhill, LA, Springhill, Takeoff Minimums and Obstacle DP, Orig-A

Grand Rapids, MI, Gerald R. Ford Intl, ILS OR LOC RWY 8R, Amdt 6A

Grand Rapids, MI, Gerald R. Ford Intl, ILS OR LOC RWY 26L, Amdt 21A

Grand Rapids, MI, Gerald R. Ford Intl, ILS OR LOC RWY 35, Amdt 1B

Grand Rapids, MI, Gerald R. Ford Intl, RNAV (GPS) RWY 17, Amdt 1A

Grand Rapids, MI, Gerald R. Ford Intl, VOR RWY 17, Orig-D

Grand Rapids, MI, Gerald R. Ford Intl, VOR RWY 35, Amdt 1A

Greenville, MI, Greenville Muni, RNAV (GPS) RWY 10, Orig-A

Greenville, MI, Greenville Muni, RNAV (GPS) RWY 28, Orig-A

Greenville, MI, Greenville Muni, VOR/DME-A, Amdt 2A

Hastings, MI, Hastings, VOR RWY 12, Orig-E

Holland, MI, West Michigan Rgnl, VOR-A, Amdt 10D

Lansing, MI, Capital Region Intl, ILS OR LOC RWY 10R, Amdt 11

Lansing, MI, Capital Region Intl, ILS OR LOC RWY 28L, Amdt 27

Lansing, MI, Capital Region Intl, RNAV (GPS) RWY 28L, Amdt 1

Lansing, MI, Capital Region Intl, Takeoff Minimums and Obstacle DP, Amdt 14

South St Paul, MN, South St Paul Muni-Richard E Fleming Fld, LOC RWY 34, Amdt 1A

South St Paul, MN, South St Paul Muni-Richard E Fleming Fld, NDB-B, Amdt 4

South St Paul, MN, South St Paul Muni-Richard E Fleming Fld, RNAV (GPS) RWY 34, Amdt 1

South St Paul, MN, South St Paul Muni-Richard E Fleming Fld, Takeoff Minimums and Obstacle DP, Amdt 1

Thief River Falls, MN, Thief River Falls Rgnl, ILS OR LOC RWY 31, Amdt 4

Thief River Falls, MN, Thief River Falls Rgnl, NDB RWY 31, Amdt 2A

Thief River Falls, MN, Thief River Falls Rgnl, RNAV (GPS) RWY 4, Orig

Thief River Falls, MN, Thief River Falls Rgnl, RNAV (GPS) RWY 13, Orig-A

Thief River Falls, MN, Thief River Falls Rgnl, RNAV (GPS) RWY 22, Orig

Thief River Falls, MN, Thief River Falls Rgnl, RNAV (GPS) RWY 31, Orig-A

Thief River Falls, MN, Thief River Falls Rgnl, Takeoff Minimums and Obstacle DP, Orig-A

Grain Valley, MO, East Kansas City, GPS RWY 9, Orig, CANCELED

Grain Valley, MO, East Kansas City, GPS RWY 27, Orig, CANCELED

Grain Valley, MO, East Kansas City, RNAV (GPS) RWY 9, Orig

Grain Valley, MO, East Kansas City, RNAV (GPS) RWY 27, Orig

Grain Valley, MO, East Kansas City, Takeoff Minimums and Obstacle DP, Orig

Grain Valley, MO, East Kansas City, VOR/DME RNAV RWY 27, Amdt 2A, CANCELED

Grain Valley, MO, East Kansas City, VOR OR GPS RWY 23, Amdt 3A, CANCELED

Monett, MO, Monett Rgnl, RNAV (GPS) RWY 18, Amdt 3

Monett, MO, Monett Rgnl, RNAV (GPS) RWY 36, Amdt 3

Monett, MO, Monett Rgnl, Takeoff Minimums and Obstacle DP, Amdt 2

Warsaw, MO, Warsaw Muni, RNAV (GPS) RWY 18, Orig

Warsaw, MO, Warsaw Muni, RNAV (GPS) RWY 36, Orig

Warsaw, MO, Warsaw Muni, Takeoff Minimums and Obstacle DP, Orig

Gulfport, MS, Gulfport-Biloxi Intl, ILS OR LOC RWY 14, Amdt 14B

Cut Bank, MT, Cut Bank Intl, GPS RWY 31, Orig-A, CANCELED

Cut Bank, MT, Cut Bank Intl, RNAV (GPS) RWY 5, Orig

Cut Bank, MT, Cut Bank Intl, RNAV (GPS) RWY 23, Orig

Cut Bank, MT, Cut Bank Intl, Takeoff Minimums and Obstacle DP, Amdt 2

Cut Bank, MT, Cut Bank Intl, VOR RWY 32, Amdt 16

Berlin, NJ, Camden County, Takeoff Minimums and Obstacle DP, Amdt 2

Las Cruces, NM, Las Cruces Intl, RNAV (GPS) RWY 12, Amdt 1

Las Cruces, NM, Las Cruces Intl, RNAV (GPS) RWY 30, Amdt 1

Lovington, NM, Lea County-Zip Franklin Memorial, RNAV (GPS) RWY 3, Amdt 1

Lovington, NM, Lea County-Zip Franklin Memorial, RNAV (GPS) RWY 21, Amdt 1

Brigham City, UT, Brigham City, NDB-A, Amdt 1A, CANCELED

Barre/Montpelier, VT, Edward F Knapp State, ILS OR LOC RWY 17, Amdt 7

Barre/Montpelier, VT, Edward F Knapp State, RNAV (GPS) RWY 17, Amdt 1

Barre/Montpelier, VT, Edward F Knapp State, RNAV (GPS) RWY 35, Amdt 1

Barre/Montpelier, VT, Edward F Knapp State, Takeoff Minimums and Obstacle DP, Amdt 5

Barre/Montpelier, VT, Edward F Knapp State, VOR RWY 35, Amdt 4

Barre/Montpelier, VT, Edward F Knapp State, VOR/DME RWY 35, Amdt 1A, CANCELED

Eastsound, WA, Orcas Island, RNAV (GPS) RWY 16, Orig

Eastsound, WA, Orcas Island, Takeoff Minimums and Obstacle DP, Amdt 3

Walla Walla, WA, Walla Walla Rgnl, RNAV (GPS) RWY 16, Orig-A, CANCELED

Walla Walla, WA, Walla Walla Rgnl, VOR RWY 16, Amdt 12A, CANCELED

Milwaukee, WI, Lawrence J Timmerman, LOC RWY 15L, Amdt 6B

Effective 11 December 2014

Winslow, AZ, Winslow-Lindbergh Rgnl, Takeoff Minimums and Obstacle DP, Orig

Kindred, ND, Robert Odegaard Field, RNAV (GPS) RWY 11, Amdt 1B

Kindred, ND, Robert Odegaard Field, RNAV (GPS) RWY 29, Amdt 1A

Gothenburg, NE, Quinn Field, RNAV (GPS) RWY 3, Orig-A

Gothenburg, NE, Quinn Field, RNAV (GPS) RWY 21, Orig-A

Gothenburg, NE, Quinn Field, VOR-A, Amdt 3

Greybull, WY, South Big Horn County, RNAV (GPS) RWY 7, Orig-B

Greybull, WY, South Big Horn County, RNAV (GPS) RWY 34, Amdt 1B

RESCINDED: On September 25, 2014 (79 FR 57436), the FAA published an Amendment in Docket No. 30974, Amdt No. 3605, to Part 97 of the Federal Aviation Regulations under section 97.33. The following entries for Conway, AR, effective September 18, 2014 are hereby rescinded in their entirety:

Conway, AR, Cantrell Field, RNAV (GPS) RWY 4, Orig

Conway, AR, Cantrell Field, RNAV (GPS) RWY 22, Orig

Conway, AR, Cantrell Field, Takeoff Minimums and Obstacle DP, Orig

[FR Doc. 2014-26864 Filed 11-14-14; 8:45 am]

BILLING CODE 4910-13-P